DEPARTMENT OF COMMERCE

National Institute of Standards and Technology

Call for Industrial Wireless Testbed Participation

AGENCY: National Institute of Standards and Technology, Department of Commerce.

ACTION: Notice.

SUMMARY: The National Institute of Standards and Technology (NIST), an agency of the United States Department of Commerce, announces an opportunity for industrial wireless communications equipment suppliers and academic institutions to incorporate their use cases, techniques, and equipment into a NIST Industrial Wireless Testbed to help advance measurement science research in industrial wireless communication, with special emphasis on manufacturing applications.

DATES: The deadline for responding to this opportunity is June 30, 2017.

ADDRESSES: Applications to participate may be submitted in one of two ways.

• By sending an email to iwslab@nist.gov.

• By written request:

National Institute of Standards and Technology

ATTN: Richard Candell, 100 Bureau Drive, Stop 8230, Gaithersburg, MD 20899-8615.

Please direct media inquiries to NIST's Office of Public Affairs at 301-975-2762.

FOR FURTHER INFORMATION CONTACT: Rick Candell, National Institute of Standards and Technology, 100 Bureau Drive, MS 8230, Gaithersburg, MD 20899, 301-975-4287, email: iwslab@nist.gov.

SUPPLEMENTARY INFORMATION: As part of the NIST Wireless Systems for Industrial Environments project, NIST has constructed a hardware-in-the-loop Industrial Wireless Testbed that includes a radio frequency channel emulator used to recreate the factory radio environment, and simulated and real factory processes, controls, and equipment. The emulator which is an Intelligent Automation Inc. D-508 emulator supports up to eight (8) devices. Industrial wireless communication devices are connected to the emulator, and measurement methods to assess the impacts of various types of wireless systems on the performance of simulated factory operations will be developed and applied. Participants will include researchers from industry and academia interested in supporting the industrial wireless measurement science activities at NIST.

Research results will be used as input into best practices reports on the performance measurement and use of industrial wireless systems in manufacturing applications. Integration of equipment into the testbed will be conducted at the expense of the responder. Participants will be expected to loan their equipment, through a Cooperative Research and Development Agreement (CRADA) with NIST, for a period of typically 6 months for use in the testbed. Participants will be expected to contribute in-kind engineering resources necessary to integrate and operate their equipment in the Testbed, including making any needed modifications to their equipment to achieve compatibility with Testbed interfaces, at no cost to NIST. Participants will have access to NIST test equipment associated with the Testbed, subject to availability. Industry participants are also encouraged to describe candidate use cases for possible inclusion in Testbed activities. More information on the NIST Wireless Systems for Industrial Environments may be found at https://www.nist.gov/programs-projects/wireless-systems-industrial-environments.

Interested participants should respond by sending an email to iwslab@nist.gov or writing to the address listed in the ADDRESSES section. Inquiry emails should include a brief explanation of the purpose statement no more than 500 words explaining the purpose of collaboration and the benefit to NIST industrial wireless research objectives. The email may include a brief research plan no more than two (2) pages in length in PDF format. Product marketing materials are not acceptable as a research plan.

The deadline for responding to this opportunity is June 30, 2017. NIST will accept up to five responders as collaborators in the proposed project, on a first come, first-served basis. Due to limited resources, the proposed research project will be limited to a maximum of five collaborators. Acceptance of participants will be aimed at achieving a diversity of industrial wireless equipment in the Testbed, and will depend on the level of commitment of the participant, the proposed equipment and engineering support resources, and the availability of NIST resources to support incorporation of equipment into the Testbed.

Dated: May 1, 2017.
Kevin A. Kimball,
Chief of Staff.

[FR Doc. 2017-09046 Filed 5-4-17; 8:45 am]

BILLING CODE 3510-13-P